DEPARTMENT OF COMMERCE

National Oceanic and Atmospheric Administration

[I.D. 032406C]

Endangered Species; File No. 1540

AGENCY: National Marine Fisheries Service (NMFS), National Oceanic and Atmospheric Administration (NOAA), Commerce.

ACTION: Notice; receipt of application for modification of a scientific research permit.

SUMMARY: Notice is hereby given that South Carolina Department of Natural Resources (SCDNR), Marine Resources Division, P.O. Box 12559, Charleston, S.C. 29422-2559, has requested a modification to scientific research Permit No. 1540.

DATES: Written, telefaxed, or e-mail comments must be received on or before May 1, 2006.

ADDRESSES: The modification request and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1540.

FOR FURTHER INFORMATION CONTACT: Kate Swails or Patrick Opay, (301)713-2289.

SUPPLEMENTARY INFORMATION: The subject modification to Permit No. 1540, issued on February 6, 2006 (71 FR 7019) is requested under the authority of the Endangered Species Act of 1973, as amended (16 U.S.C. 1531 et seq.) and the regulations governing the taking, importing, and exporting of endangered and threatened species (50 CFR 222-226).

Permit No. 1540 currently authorizes the permit holder to study loggerhead (Caretta caretta), Kemp's ridley (Lepidochelys kempii), green (Chelonia mydas), leatherback (Dermochelys coriacea), and hawksbill (Eretmochelys imbricata) sea turtles. The purpose of the research is to continue to document in-water relative abundances, size distributions, sex ratios, genetic contributions, and the health of sea turtles in coastal waters in the southeastern U.S. SCDNR is authorized to capture 146 loggerhead, 48 Kemp's ridley, 15 green, 1 leatherback, and 3 hawksbill sea turtles, during the first year of the permit's five- year period. The permit authorizes research on up to 346 loggerhead, 48 Kemp's ridley, 15 green, 1 leatherback, and 3 hawksbill sea turtles annually for the remaining four-years. Turtles are captured by trawls, handled, blood sampled, measured, flipper and PIT tagged, photographed, and released. A subsample of animals have barnacles and keratin removed from their shell, have cloacal samples taken, have laparoscopic and ultrasound exams, and have satellite transmitters attached. Up to 7 loggerhead and 1 leatherback may potentially be taken as accidental mortalities over the course of the entire permit. Additionally, up to 5 Kemp's ridley, green, or hawksbill sea turtles (combined total but no more than two of any given species) may potentially be taken as accidental mortalities over the course of the entire permit. The permit is issued for 5 years.

The permit holder requests a modification to the permit that would allow skin biopsy sampling of 125 loggerhead sea turtles. Fifty adult male sea turtles would be sampled offshore of Cape Canaveral, FL and 75 sub-adult sea turtles would be sampled off Charleston, SC. The goal of the additional research would be to assess the potential diversity of diets and foraging habits of loggerheads in the Southeastern United States.

Dated: March 27, 2006.
Stephen L. Leathery,
Chief, Permits, Conservation and Education Division, Office of Protected Resources, National Marine Fisheries Service.

[FR Doc. E6-4729 Filed 3-30-06; 8:45 am]

BILLING CODE 3510-22-S